DEPARTMENT OF COMMERCE

National Oceanic and Atmospheric Administration

[I.D. 082101C]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will begin Monday, September 24, 2001, at 1 p.m. and may go into the evening until business for the day is completed. The meeting will reconvene from 8 a.m. to 5 p.m. Tuesday, September 25 through Friday, September 28.

ADDRESSES: The meetings will be held at NMFS Southwest Fisheries Science Center, Santa Cruz Laboratory, 110 Shaffer Road, Santa Cruz, CA 95060; telephone: (831) 420-3900.

Council address: Pacific Fishery Management Council, 7700 NE Ambassador Place, Suite 200, Portland, OR 97220-1384.

FOR FURTHER INFORMATION CONTACT: John DeVore, Groundfish Fishery Management Coordinator; telephone: (503) 326-6352.

SUPPLEMENTARY INFORMATION: The primary purpose of the GMT meeting is to prepare final recommendations regarding groundfish harvest levels and management for 2002. Members of the Council's Scientific and Statistical Committee and the Groundfish Advisory Subpanel may attend to discuss the results of recent groundfish stock assessments and 2002 harvest levels. The GMT will also prepare reports, recommendations, and analyses in support of various Council decisions through the remainder of the year. The following specific items comprise the draft agenda (1) prepare final acceptable biological catch (ABC) and optimum yield (OY) recommendations for 2002, (2) complete and/or review rebuilding plans for overfished groundfish stocks, (3) calculate limited entry, open access, and other allocations, (4) evaluate management options for 2002, (5) complete and/or review economic/social analysis of proposed harvest levels and management measures for 2002, (6) complete the Council’s Stock Assessment and Fishery Evaluation document, (7) resolve any outstanding recreational data issues and evaluate the need for inseason management adjustments, and(8) other miscellaneous Council groundfish issues.

Although non-emergency issues not contained in this agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 326-6352 at least 5 days prior to the meeting date.

Dated: August 28, 2001.
Richard W. Surdi,
Acting Director, Office of Sustainable Fisheries, National Marine Fisheries Service.

[FR Doc. 01-22554 Filed 9-6-01; 8:45 am]

BILLING CODE 3510-22-S